DEPARTMENT OF AGRICULTURE

Agricultural Marketing Service

[Doc. No. TM-06-01]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Wednesday, November 16, 2005, 9 a.m. to 4:45 p.m.; and Thursday, November 17, 2005, 9 a.m. to 5:15 p.m. Requests from individuals and organizations wishing to make an oral presentation at the meeting are due by the close of business on November 11, 2005.

ADDRESSES: The meeting will take place at the Channel Inn Hotel, The Captain's Room, 650 Water Street, SW., Washington, DC 20024. Requests for copies of the NOSB meeting agenda, requests to make an oral presentation at the meeting, or written comments may be sent to Ms. Katherine Benham at USDA-AMS-TMD-NOP, 1400 Independence Avenue, SW., Room 4008-So., Ag Stop 0268, Washington, DC 20250-0200. Requests to make an oral presentation at the meeting may also be sent via facsimile to Ms. Katherine Benham at (202) 205-7808 or electronically to Ms. Katherine Benham at Katherine.benham@usda.gov.

FOR FURTHER INFORMATION CONTACT: Katherine E. Benham, Advisory Board Specialist, National Organic Program, (202) 205-7806.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six committees working on various aspects of the organic program. The committees are: Compliance, Accreditation, and Certification; Crops; Livestock; Materials; Handling; and Policy Development.

In August of 1994, the NOSB provided its initial recommendations for the National Organic Program (NOP) to the Secretary of Agriculture. Since that time, the NOSB has submitted 77 addenda to its recommendations and reviewed more than 269 substances for inclusion on the National List of Allowed and Prohibited Substances. The last meeting of the NOSB was held on August 15-17, 2005, in Washington, DC.

The Department of Agriculture (USDA) published its final National Organic Program regulation in the Federal Register on December 21, 2000 (65 FR 80548). The rule became effective April 21, 2001.

The principal purposes of the meeting are to provide an opportunity for the NOSB to receive an update from the USDA/NOP and hear progress reports from NOSB committees regarding work plan items and proposed action items. The NOSB subcommittees (Crops, Livestock, and Handling Committees) will also present and propose, to the full NOSB, recommendations concerning the continued use or prohibition of substances being reviewed under the OFPA's sunset provisions for the National List. The NOSB will vote on these recommendations.

The OFPA authorized a National List of Allowed and Prohibited Substances. The Act also provides that no allowed or prohibited substance would remain on the National List for a period exceeding 5 years unless the exemption or prohibition is reviewed and recommended for renewal by the NOSB and adopted by the Secretary of Agriculture. This expiration is commonly referred to as sunset of the National List. The National List was implemented on October 21, 2002 contained over 170 substances. This first sunset of the National List triggers a review process that must be concluded no later than October 21, 2007. If renewal is not concluded by that date, the use or prohibition of hundreds of materials will no longer be valid for the organic industry, causing most if not all of the organic industry to be in noncompliance with the National Organic Standards. Because this first sunset process involves Federal rulemaking, the NOSB and the NOP has issued guidance and begun work on the National List Sunset process in order to avoid expiration of the National List on October 21, 2007.

For further information, see http://www.ams.usda.gov/nop. Copies of the NOSB meeting agenda can be requested from Ms. Katherine Benham by telephone at (202) 205-7806; or by accessing the NOP Web site at http://www.ams.usda.gov/nop.

The meeting is open to the public. The NOSB has scheduled time for public input for Sunset Review on Wednesday, November 16, 2005, from 9:40 a.m. to 11:45 a.m., and time for public input on Pasture for Organic Livestock on Thursday, November 17, 2005, from 3 p.m. to 5 p.m. Individuals and organizations wishing to make an oral presentation at the meeting may forward their request by mail, facsimile, or e-mail to Katherine Benham at addresses listed in ADDRESSES above. While persons wishing to make a presentation for Sunset Review and/or Pasture for Organic Livestock may sign up at the door, advance registration will ensure that a person has the opportunity to speak during the allotted time and will help the NOSB to better manage the meeting and to accomplish its agenda. Individuals or organizations will be given approximately 5 minutes to present their views. All persons making an oral presentation are requested to provide their comments in writing. Written submissions may contain information other than that presented at the oral presentation.

Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from the meeting.

Dated: October 31, 2005.
Lloyd C. Day,
Administrator, Agricultural Marketing Service.

[FR Doc. 05-22045 Filed 11-2-05; 8:45 am]

BILLING CODE 3410-02-P